DEPARTMENT OF ENERGY

Federal Energy Regulatory Commission

[Docket No. EL02-20-000]

California Independent System Operator Corporation, California Electricity Oversight Board, Public Utilities Commission of the State of California Complainants, v. Pacific Gas and Electric Company, Respondent; Notice of Complaint

November 14, 2001.

Take notice that on November 13, 2001, the California Independent System Operator Corporation (the ISO), the California Electricity Oversight Board, and the Public Utilities Commission of the State of California submitted a complaint pursuant to section 206 of the Federal Power Act, 16 U.S.C. 824e, against Pacific Gas and Electric Company (PG&E) alleging that certain rates, referred to as the Fixed Option Payments, payable by the ISO under certain reliability must run (RMR) contracts between the ISO and respondent are unjust and unreasonable.

Complainants allege that the currently effective Fixed Option Payments were set by a series of settlements in 1999 and 2000, that covered most RMR units, including those owned by PG&E. Complainants, along with the major California investor-owned utilities, including PG&E, sought to lower the cost of the Fixed Option Payment in Docket Nos. ER98-495-000, et al. In an initial decision in that proceeding, issued June 7, 2000, the Presiding Administrative Law Judge adopted the “net incremental cost” method for calculating the Fixed Option Payment. Claimants assert that the same method, applied to the respondents' RMR units, would yield Fixed Option Payments lower than those currently in affect. Complainants ask that the Commission institute an investigation, set a refund date of January 12, 2001, and defer further action pending its decision on exceptions in Docket Nos. ER98-495-000, et al.

Copies of the complaint were served on respondents and on other interested parties.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before December 3, 2001. Protests will be considered by the Commission in determining the appropriate action to be taken, but will not serve to make protestants parties to the proceeding. Any person wishing to become a party must file a motion to intervene. Answers to the complaint shall also be due on or before December 3, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-28948 Filed 11-19-01; 8:45 am]

BILLING CODE 6717-01-P